DEPARTMENT OF ENERGY

Federal Energy Regulatory Commission

Notice of Application for Surrender of Exemption and Soliciting Comments, Motions To Intervene, and Protests

December 14, 2001.

Take notice that the following hydroelectric application has been filed with the Commission and is available for public inspection:

a. Application Type: Surrender of Exemption.

b. Project No.: 7662-016.

c. Date Filed: April 6, 2001.

d. Applicant: Reading Area Water Authority (RAWA or Authority).

e. Name and Description of Project: The existing Ontelaunee Hydroelectric Project consists of: (1) a 550-foot-long and 56-foot-high concrete gravity ogee spillway, Ontelaunee Dam, and adjoining 3,200-foot-long earth embankment; (2) 1,350-acre Ontelaunee Lake with a normal water elevation of 304 feet (City of Reading Datum) and a storage capacity of 11,600 acre-feet; (3) a 110-foot-long and 4-foot-diameter steel penstock , a 90-foot-long and 6-foot-diameter penstock, and a 7,920-foot-long and 6.75-foot-diameter concrete tunnel; (4) a reinforced concrete powerhouse, located at the spillway toe adjacent to the right abutment, with no installed capacity; (5) a 300-foot-long tailrace channel; (6) a generating unit with an installed capacity of 37 kW located within the exemptee's Maidencreek filter plant; and (7) other appurtenances.

The Commission's Division of Dam Safety and Inspections (D2SI) has determined that there are no outstanding dam safety issues or any outstanding compliance issues involving dam safety matters pending before the Commission at the subject project. Consequently, D2SI concludes that it does not have any dam safety related requirements. After the issuance of any Commission order approving the proposed surrender, the State of Pennsylvania Department of Environmental Protection, Bureau of Waterways Engineering, Division of Dam Safety would be responsible for regulating the project.

RAWA proposes: (1) to decommission the 40-kilowatt unit within its Maidencreek Filter Plant; (2) to avoid entrainment of fish into the municipal water system by continuing to maintain and inspect annually the existing fish net at the intake; (3) to provide recreational opportunities by continuing to maintain the Authority's two existing picnic areas, which provide, in total, parking for approximately 75 vehicles, 15 large tables, and 12 cooking grills; and (4) to maintain the project's current conservation releases (minimum flows) from Ontelaunee Dam to Maiden Creek. These releases are provided as follows: 51 cubic feet per second (cfs) if the level of the reservoir is greater than 302 feet; 36 cfs if the reservoir level is between 300 and 302 feet; and 27 cfs if the level of the reservoir is under 300 feet. To ensure proper maintenance of these conservation releases, the Authority intends to install accurate measuring and recording devices.

f. Location: The project is located on Lake Ontelaunee and Maiden Creek in Berks County, Pennsylvania.

g. Filed Pursuant to: Federal Power Act, 16 U.S.C. 791(a)-825(r).

h. Applicant's Contact: Mr. Anthony J. Consentino, Executive Director, Reading Area Water Authority, 815 Washington Street, Reading, PA 19601; Telephone (610) 655-6253.

i. FERC Contact: James Haimes at (202) 219-2780; or e-mail at james.haimes@ferc.fed.us j. Deadline for filing comments and or motions: 30 days from the issuance date of this notice.

The Commission's Rules of Practice and Procedure require all interveners filing documents with the Commission to serve a copy of that document on the official service list for the project. Further, if an intervener files comments or documents with the Commission relating to the merits of an issue that may affect the responsibilities of a particular resource agency, the intervener also must serve a copy of the document on that resource agency.

All documents (original and eight copies) should be filed with: Linwood A. Watson, Jr., Acting Secretary, Federal Energy Regulatory Commission, 888 First Street, NE, Washington, DC 20426. Comments, protests and interventions may be filed electronically via the Internet in lieu of paper. See, 18 CFR 385.2001(a)(1)(iii) and the instructions on the Commission's web site under the “e-Filing” link.

Please include the project number (P-7662-016) on any comments or motions filed.

k. Description of Proposed Action: RAWA proposes to decommission its entire exempted project, and to cease power production at its Maidencreek Filter Plant, located 1.5 miles downstream from Lake Ontelaunee.

l. Locations of the Application: A copy of the application is available for inspection and reproduction at the Commission's Public Reference Room, located at 888 First Street NE, Room 2A, Washington, DC 20426, or by calling (202) 208-1371. Copies of this filing are on file with the Commission and are available for public inspection. This filing may also be viewed on the web at http://www.ferc.gov using the “RIMS” link, select “Docket#” and follow the instructions (call 202-208-2222 for assistance). A copy is also available for inspection and reproduction at the address in item h, above.

m. Individuals desiring to be included on the Commission's mailing list for the Ontelaunee Hydroelectric Project, No. 7662, should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the subject application.

o. Filing and Service of Responsive Documents—Any filings must bear in all capital letters the title “COMMENTS”, “PROTEST”, OR “MOTION TO INTERVENE”, as applicable, and the project name and number, “Ontelaunee Hydroelectric Project Surrender of Exemption, No. 7662-016”. Any of the above-named documents must be filed by providing the original and the number of copies provided by the Commission's regulations to: The Secretary, Federal Energy Regulatory Commission, 888 First Street, NE, Washington, DC 20426. A copy of any motion to intervene must also be served upon the representative of the RAWA specified in item h, above.

p. Agency Comments—Federal, state, and local agencies are invited to file comments on the subject application for surrender of exemption. If an agency does not file comments within the time specified for filing comments, it will be presumed to have no comments. One copy of an agency's comments must also be sent to the Applicant's representative listed in item h, above.

Linwood A. Watson, Jr.,
Acting Secretary.

[FR Doc. 01-31311 Filed 12-19-01; 8:45 am]

BILLING CODE 6717-01-P